COMMISSION ON CIVIL RIGHTS

Sunshine Act Meeting Notice

AGENCY: United States Commission on Civil Rights.

ACTION: Notice of Commission telephonic business meeting.

DATES: Date and Time: Friday, July 29, 2016, at 1:00 p.m. EST.

ADDRESSES: Meeting to take place by telephone.

FOR FURTHER INFORMATION CONTACT: Brian Walch, Public Affairs Specialist at (202) 376-8371 or publicaffairs@usccr.gov.

SUPPLEMENTARY INFORMATION: This business meeting is open to the public. This meeting is open to the public by telephone only. If you would like to call-in please contact Brian Walch via telephone or email at (202) 376-8371 or publicaffairs@usccr.gov for the call-in information.

Persons with hearing impairments, please contact the above for how to access the Federal Relay Service for the meeting.

Meeting Agenda

I. Approval of Agenda

II. Program Planning

• Discussion and vote on finding and recommendations for FY2016 Statutory Enforcement Report

• Discussion and vote on concept paper for FY2017 Statutory Enforcement Report

V. Adjourn Meeting

Dated: July 21, 2016.
David Mussatt,
Regional Programs Unit Chief, U.S. Commission on Civil Rights.

[FR Doc. 2016-17683 Filed 7-22-16; 11:15 am]

BILLING CODE 6335-01-P